DEPARTMENT OF HOMELAND SECURITY

Coast Guard

33 CFR Part 117

[Docket No. USCG-2015-0127]

Drawbridge Operation Regulation; Columbia River, Celilo, OR and Wishram, WA

AGENCY: Coast Guard, DHS.

ACTION: Notice of temporary deviation from drawbridge regulation.

SUMMARY: The Coast Guard has issued a temporary deviation from the operating schedule that governs the Burlington Northern Santa Fe Railway Bridge, also known as the Celilo Bridge, across the Columbia River, mile 201.2, at Celilo, OR and Wishram, WA. The deviation is necessary to replace lift span rail joints. This deviation allows the bridge to remain in the closed-to-navigation position during maintenance activities.

DATES: This deviation is effective without actual notice March 13, 2015 until 3 p.m. For the purposes of enforcement, actual notice will be used from 7 a.m. on March 9, 2015, until 3 p.m. March 13, 2015.

ADDRESSES: The docket for this deviation, [USCG-2015-0127] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Mr. Steven Fischer, Bridge Administrator, Coast Guard Thirteenth District; telephone 206-220-7282, email d13-pf-d13bridges@uscg.mil. If you have questions on viewing the docket, call Cheryl Collins, Program Manager, Docket Operations, telephone 202-366-9826.

SUPPLEMENTARY INFORMATION: Burlington Northern Santa Fe (BNSF) Railway requested this deviation to facilitate the installation of new rail joints on the lift span. BNSF has scheduled this installation to coincide with the U.S. Army Corps of Engineers lock outages on the Columbia River. The Celilo Bridge crosses the Columbia River at mile 201.2 and provides 18.8 feet of vertical clearance above Columbia River Datum 0.0 while in the closed position. Under normal operations, this bridge opens as required by 33 CFR 117.869. The deviation period is from 7 a.m. to 3 p.m. daily on March 9, 2015 through March 13, 2015. This deviation allows the lift span of the BNSF Railway Bridge across the Columbia River, mile 201.2, to remain in the closed-to-navigation position, and need not open for maritime traffic during the periods listed above. The bridge shall operate in accordance to 33 CFR 117.869 at all other times. Waterway usage on this part of the Columbia River includes vessels ranging from commercial tug and barge to small pleasure craft.

Vessels able to pass through the bridge in the closed positions may do so at anytime. The BNSF Railway Bridge will not be able to open for emergencies, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: March 5, 2015.
Steven M. Fischer,
Bridge Administrator, Thirteenth Coast Guard, District.

[FR Doc. 2015-05886 Filed 3-13-15; 11:15 am]

BILLING CODE 9110-04-P